DEPARTMENT OF THE INTERIOR

National Park Service

National Register of Historic Places; Notification of Pending Nominations

Nominations for the following properties being considered for listing in the National Register were received by the National Park Service before August 2, 2003. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by September 12, 2003.

Carol D. Shull,
Keeper of the National Register of Historic Places.

ARIZONA

Maricopa County

Rancho Arroyo, 6737 N. 20th St., Phoenix, 03000901

Pima County

Arizona Hotel (Downtown Tucson, Arizona MPS) 31-47 N. Sixth Ave., 135 E. Tenth St., Tucson, 03000902

El Paso and Southwestern Railroad Depot, (Downtown Tucson, Arizona MPS), 419 W. Congress St., Tucson, 03000903

First Hittinger Block (Downtown Tucson, Arizona MPS), 116 E. Congress St., Tucson, 03000904

Foz Theatre (Downtown Tucson, Arizona MPS), 17 W. Congress St., Tucson, 03000905

Hotel Congress (Downtown Tucson, Arizona MPS), 303-311 E. Congress St., Tucson, 03000906

J. C. Penney—Chicago Store (Downtown Tucson, Arizona MPS), 130 E. Congress St., Tucson, 03000907

Rebeil Block (Downtown Tucson, Arizona MPS), 72 E. Congress, Tucson, 03000910

Rialto Building (Downtown Tucson, Arizona MPS), 300-320 E. Congress St., Tucson, 03000908

Rialto Theatre (Downtown Tucson, Arizona MPS), 318 E. Congress St., Tucson, 03000909

Valley National Bank Building (Downtown Tucson, Arizona MPS), 27 S. Stone Ave., Tucson, 03000911

Santa Cruz County

Barrio de Tubac Archeological District (Tubac Settlement MPS), Address Restricted, Tubac, 03000912

Yuma County

Camp Horn Monument, Approx 7 mi. of Dateland, Dateland, 03000900

ILLINOIS

Cook County

Flat Iron Building, 1441-1449 Emerald Ave., Chicago Heights, 03000917

Du Page County

Pentecost, John L., House, 259 Cottage Hill Ave., Elmhurst, 03000916

Lake County

Stevenson, Adlai E., II, Farm, 25200 N. Saint Mary's Rd., Mettawa, 03000918

Winnebago County

Jameson, H.D., House, 900 N. Prairie St., Rockton, 03000915

IOWA

Cedar County

Cedar County Sheriff's House and Jail (Municipal, County and State Corrections Properties MPS), 118 W. 4th St., Tipton, 03000913

Jefferson County

Louden, R. Bruce, House (Louden Machinery Company, Fairfield Iowa MPS), 501 W. Adams Ave., Fairfield, 03000940

Page County

Stauer, Peter, House, 629 Main St., McGregor, 03000914

KENTUCKY

Menifee County

Red River Gorge District, Address District, Menifee, 03000919

MAINE

York County

Spiller Farm Paleoindian Site (Maine Fluted Point Paleoindian Sites MPS) Address Restricted, Wells, 03000922

MASSACHUSETTS

Franklin County

Whately Center Historic District, 155-215 Chestnut Plain Rd. and 330-348 Haydenville Rd., Whately, 03000920

Norfolk County

First Baptist Church of Medfield, 438 Main St., Medfield, 03000921

MONTANA

Cascade County

Union Bethel African Methodist Episcopal Church, 916 Fifth Ave. S, Great Falls, 03000924

Custer County

Snell, Walrond and Elizabeth, House, 402 S. Lake St., Miles City, 03000923

NEW HAMPSHIRE

Merrimack County

Waterloo Historic District, 78-183 Waterloo St., 12 and 68 Newmarket Rd., 4 Willoughby-Colby Rd., Bean Road Cemetery, Warner, 03000926

Rockingham County

Freewill Baptist Church—Peoples Baptist Church—New Hope Church, 45 Pearl St., Portsmouth, 03000925

NEW JERSEY

Somerset County

St. John's Church Complex, 154-158 W. High School, Somerville, 03000933

NORTH CAROLINA

Surry County

Cedar Point, 350 W. Main St., Elkin, 03000927

Wake County

Avera, Dr. Thomas H., House, (Wake County MPS) 6600 Robertson Pond Rd., Wendell, 03000928

Green, Herman, House (Wake County MPS), NC 1371, 0.4 N of NC 1375 (5500 Lake Wheeler Rd.), Raleigh, 03000930

Occidental Life Insurance Company Building, 1001 Wade Ave., Raleigh, 03000929

Pugh House (Wake County MPS), 10018 Chapel Hill Rd., Morrisville, 03000932

Smith, Frank and Mary, House (Wake County MPS), 2935 John Adams Rd., Willow Spring, 03000931

PENNSYVLANIA

Bradford County

Wyalusing Borough Historic District, Roughly bounded by Prospect, First, Second, Third, Noble Sts., and Taylor Ave., Wyalusing Borough, 03000934

TEXAS

Harris County

Myers-Spalti Manufacturing Plant, 2115 Runnels St., Houston, 03000936

Menard County

Menard County Courthouse, 206 E. San Saba St., Menard, 03000935

Travis County

Old West Austin Historic District, Roughly bounded by W. 13th, Lamar Blvd., W. 35th and Mo-Pac Expy., Austin, 03000937

WISCONSIN

Barron County

Wajiwan ji Mashkode Archeological District, Address Restricted, Rice Lake, 03000938

WYOMING

Teton County

Jackson Hole American Legion Post No. 43, 182 N. Cache, Jackson, 03000939

[FR Doc. 03-21971 Filed 8-27-03; 8:45 am]

BILLING CODE 4312-51-P